ADMINISTRATIVE COMMITTEE OF THE FEDERAL REGISTER

1 CFR Parts 8, 10 and 11

[A.G. Order No. 2287-2000]

RIN 3095-ZA02

Prices, Availability and Official Status of Federal Register Publications

AGENCY: Administrative Committee of the Federal Register.

ACTION: Final rule with request for comments.

SUMMARY: The Administrative Committee of the Federal Register (ACFR) announces increases in the prices charged for the paper and microfiche editions of Federal Register publications. The price changes apply to the daily Federal Register, the Federal Register Index and LSA (List of CFR Sections Affected), the Code of Federal Regulations (CFR) and the Weekly Compilation of Presidential Documents. The Administrative Committee has determined that it is necessary to increase prices to enable the Government Printing Office (GPO) to recover the full cost of producing and distributing Federal Register publications. This final rule also makes amendments to acknowledge the official status and availability of online editions of the CFR and the Weekly Compilation of Presidential Documents on the GPO Access service.

DATES: This final rule is effective March 24, 2000. Comments will be accepted through April 24, 2000.

ADDRESSES: Comments should be addressed to Michael White. Written comments may be submitted by U.S. mail to the Office of the Federal Register (NF), National Archives and Records Administration, Washington, DC 20408-0001, or by private delivery services to the Office of the Federal Register, 800 North Capitol Street, NW., Suite 700, Washington, DC 20001. Comments may also be submitted by email to legal@fedreg.nara.gov, or by fax to 202-523-6866.

FOR FURTHER INFORMATION CONTACT: Michael White at 202-275-4292.

SUPPLEMENTARY INFORMATION:

Background

Under the Federal Register Act (44 U.S.C. Chapter 15), the Administrative Committee of the Federal Register is responsible for establishing the prices charged for Federal Register publications. The Administrative Committee has determined that it must make price adjustments to certain publications to accurately reflect the current costs of production and distribution. This final rule will increase the subscription rates for the paper editions of the daily Federal Register, the Federal Register Index and LSA (List of CFR Sections Affected), the Code of Federal Regulations (CFR) and the Weekly Compilation of Presidential Documents. The subscription rates and the single copy prices of the microfiche editions of the daily Federal Register and CFR also will increase.

On September 1, 1992, the Administrative Committee adopted a policy to require revenues from subscriptions and single copy sales of ACFR publications to keep pace with printing and distribution costs, and postal rate increases. Since 1992, the Administrative Committee has periodically adjusted the prices of Federal Register publications in accordance with GPO cost analyses. The Administrative Committee's last price change regulation raised the prices of paper publications and lowered the prices of microfiche editions (61 FR 68118, December 27, 1996).

The final rule takes into account GPO's current analysis of its actual production and distribution costs over the past three years and projected costs for the year 2000. The Administrative Committee has determined that it is necessary to increase the prices charged for the paper editions of Federal Register publications by an average of 15 percent to achieve full cost recovery. This amounts to a 5 percent increase for each of the past three years since the last price changes. The increases are primarily attributable to higher labor expenses, postal rates and paper costs, and a substantial decline in sales of printed publications, causing upward pressure on the average cost per subscription. Price increases for the microfiche editions of the Federal Register and the CFR are the result of a competitive bidding process.

Single copy sales and subscriptions to Federal Register publications have declined steadily since online service on GPO Access began in 1994. The decline in sales accelerated when free access began in late 1995. Since the beginning of fiscal year 1995, the number of paid subscriptions to the daily Federal Register has declined by 60 per cent and sales of CFR products and other Federal Register publications have fallen off by more than 36 percent. As a result, a smaller subscriber base must absorb a greater share of the costs.

Over the same time period in which sales of Federal Register publications have fallen, the public has been using Federal Register publications online in large and increasing numbers. Information retrievals from online Federal Register publications have grown by 6612 percent since the beginning of fiscal year 1995. During fiscal year 1999, users retrieved 48 million individual documents from the online edition of the Federal Register and 88 million from the online CFR. These figures demonstrate that the Administrative Committee is meeting its goal for enhancing public access to Federal Register publications to provide essential information on the functions, actions and regulatory requirements of the Government.

The increased prices for Federal Register publications are reflected in amendments to 1 CFR part 11 of this final rule. The following rates will be effective March 24, 2000. The annual subscription rate for the daily Federal Register paper edition is increased to $638. For a combined Federal Register, Federal Register Index and LSA (List of CFR Sections Affected) subscription the price is increased to $697. The price of a single copy of the daily Federal Register paper edition is increased to $9. The annual subscription price of the microfiche edition of the Federal Register, which includes the Federal Register Index and LSA, is increased to $253. The price of a single copy of the daily Federal Register microfiche edition is increased to $2. The annual subscription price for the Federal Register Index is increased to $28. The annual subscription price for the monthly LSA is increased to $31. The annual subscription rates for a full set of CFR volumes are increased to $1,094 for the paper edition, and $290 for the microfiche edition. The price of a single copy of the CFR microfiche edition is increased to $2. The annual subscription rates for the Weekly Compilation of Presidential Documents are increased to $92 for delivery by non-priority mail and $151 for delivery by first-class mail. The price of a single copy of the Weekly Compilation is increased to $4.

In addition to the price changes contained in this document, the Administrative Committee is amending its regulations in 1 CFR parts 8, 10 and 11 to acknowledge the official status and availability of the online editions of the CFR and the Weekly Compilation of Presidential Documents. The Administrative Committee has general authority under 44 U.S.C. 1506 to determine the manner and form for publishing the Federal Register and its special editions. The CFR and Weekly Compilation are special editions of the Federal Register. The Government Printing Office Electronic Information Access Enhancement Act of 1993 (GPO Access), 44 U.S.C. 4101, provided additional authority for the Administrative Committee to expand public access to Federal Register publications, beginning with the inauguration of online Federal Register service on June 8, 1994.

In 1995 and 1996, the Administrative Committee authorized GPO and the Office of the Federal Register (OFR) to develop online editions of the CFR and other Federal Register publications to provide the American public with greater access to essential Government information. The OFR/GPO partnership posted selected volumes of the 1996 CFR in October of 1996 to begin the pilot program. Beginning with the 1997 set, all annual CFR volumes are available on the GPO Access service.

The online edition of the CFR is produced from the same OFR/GPO publication database that is used to print the paper volumes. It includes text-only files (with notations to indicate where graphics are omitted) and Portable Document Format (PDF) files which produce page-for-page replicas of the printed volumes, including all graphics. The text-only files ensure that persons with visual disabilities have equal access to federal regulations.

The CFR is the official codification of federal regulations having general applicability and legal effect. Under the Federal Register Act (44 U.S.C. 1510), the CFR is prima facie evidence of the original documents filed with the OFR and published in the Federal Register, and the fact that they are in effect on and after the dates specified in the codification. The CFR, in the formats authorized by the Administrative Committee, is the only official codification of federal regulations. By amending its regulations to recognize the online CFR on GPO Access as one of three authorized publication formats, the Administrative Committee assures the public that it may fully rely on the online edition of the CFR on GPO Access as an official legal publication.

In 1997, the OFR/GPO partnership developed a pilot for an online edition of the Weekly Compilation of Presidential Documents. The Weekly Compilation is an official serial publication of Presidential documents. OFR editors review all material submitted for publication in the Weekly Compilation to assure the accuracy and integrity of the publication. The Weekly Compilation contains Presidential statements, memoranda, messages to Congress and federal agencies, speeches and other remarks released by the White House. Like the online CFR, the online edition of the Weekly Compilation includes text-only files and PDF files. The files begin with documents from January 1993 through the present. By amending its regulations to recognize the official status of the online Weekly Compilation of Presidential Documents on GPO Access, the Administrative Committee assures the public that it may rely on the online edition as an authoritative source of historical information.

Accordingly, this final rule revises 1 CFR 8.6 and 11.3 by listing the online CFR on GPO Access as one of the three official formats authorized by the Administrative Committee. Sections 10.3 and 11.6 are revised to include the online edition of the Weekly Compilation of Presidential Documents on GPO Access as an official Federal Register publication. The affected sections are also slightly reorganized to create shorter paragraphs and a more parallel structure consistent with plain language requirements.

The Administrative Committee's last price change regulation invited public comment on the pricing structure of Federal Register publications. The Administrative Committee did not receive any comments relating specifically to the prices of print publications. But several customers made suggestions for improving the user interfaces of the online publications to make them better alternatives to the printed publications. In response to those concerns, OFR and GPO developed browsing features for the online Federal Register and CFR to provide direct access to material through hypertext tables of contents, and GPO added more powerful servers.

Customers who need assistance or wish to submit suggestions for improving online Federal Register publications are referred to the GPO Access User Support Team. GPO provides information on free public access to the online editions of Federal Register publications on the GPO Access service via:

• Telephone at 202-512-1530, or toll free at 1-888-293-6498;

• Fax at 202-512-1262;

• Email at gpoaccess@gpo.gov;

• GPO's Federal Register World Wide Web site at http://www.access.gpo/nara, or see the National Archives and Records Administration's Federal Register Web site at: http://www.nara.gov/fedreg;

• Federal depository libraries (for the location of the nearest depository library, call the telephone numbers listed above or access the information online at http://www.access.gpo.gov/su_docs/libpro.html); and

• The daily paper edition of the Federal Register on introductory page II.

Regulatory Analysis

Administrative Procedure Act

The Administrative Committee has determined that publication of a proposed rule is unnecessary under the good cause exception of 5 U.S.C. 553(b)(B). The Administrative Committee must set the prices for Federal Register subscriptions and individual copies according to the funding mechanisms authorized under law for the Federal Register program. GPO is legally required to recover its production and distribution costs. The Administrative Committee has no discretion or means to subsidize the cost of its publications. The revised price schedule is based on an in-depth cost study conducted by GPO for the Administrative Committee, and only actual costs from prior years and conservative estimates of future costs were considered in setting these prices. Granting official status to the online editions of the CFR and the Weekly Compilation of Presidential Documents is a procedural matter. It is not a substantive rule that materially affects the rights or obligations of any person. For these reasons, the Administrative Committee has determined that there is good cause for promulgating this final rule without a prior notice of proposed rulemaking. The Administrative Committee continues to welcome comments from interested persons on all matters related to this final rule.

Executive Order 12866

The final rule has been drafted in accordance with Executive Order 12866, section 1(b), “Principles of Regulation.” The Administrative Committee has determined that this final rule is not a significant regulatory action, as defined under section 3(f) of Executive Order 12866. The rule has been submitted to the Office of Management and Budget under section 6(a)(3)(E) of Executive Order 12866.

Regulatory Flexibility Act

The Regulatory Flexibility Act, 5 U.S.C. 601 et seq., does not apply to rate increases necessary to recover the costs to the Government of printing and distributing Federal Register publications. This rule will not have a significant impact on small entities since it imposes no requirements, and any increased costs can be avoided by accessing Federal Register publications through the free GPO Access service over the Internet or at a Federal depository library.

Federalism

This rule has no federalism implications under Executive Order 13132. It does not impose compliance costs on State or local governments or preempt State law.

Congressional Review

This rule is not a major rule as defined by 5 U.S.C. 804(2). The Administrative Committee will submit a rule report, including a copy of this final rule, to each House of the Congress and to the Comptroller General of the United States as required under the congressional review provisions of the Small Business Regulatory Enforcement Fairness Act of 1986.

List of Subjects

1 CFR Part 8

Administrative practice and procedure, Code of Federal Regulations, Government publications.

1 CFR Part 10

Government publications, Presidential documents, Public Papers of the Presidents of the United States, Weekly Compilation of Presidential Documents.

1 CFR Part 11

Code of Federal Regulations, Federal Register, Government publications, Public Papers of the Presidents of the United States, United States Government Manual, Weekly Compilation of Presidential Documents.

For the reasons discussed in the preamble, the Administrative Committee of the Federal Register amends parts 8, 10 and 11 of chapter I of title 1 of the Code of Federal Regulations as set forth below:

PART 8—CODE OF FEDERAL REGULATIONS

1. The authority citation for part 8 is revised to read as follows:

Authority: 44 U.S.C. 1506, 1510; sec. 6, E.O. 10530, 19 FR 2709, 3 CFR, 1954-1958 Comp., p. 189.

2. Revise § 8.6 to read as follows:

§ 8.6 Forms of publication.

(a) Under section 1506 of title 44, United States Code, the Administrative Committee authorizes publication of the Code of Federal Regulations in the following formats:

(1) Paper;

(2) Microfiche; and

(3) Online on GPO Access (44 US.C. 4101).

(b) The Director of the Federal Register is authorized to regulate the format of the Code of Federal Regulations according to the needs of users and compatibility with the facilities of the Government Printing Office. The Director may provide for the Code of Federal Regulations to be printed in as many separately bound books as necessary, set requirements for microfiche images, and oversee the organization and means of access to material in the online edition.

PART 10—PRESIDENTIAL PAPERS

1. The authority citation for part 10 is revised to read as follows:

Authority: 44 U.S.C. 1506; sec. 6, E.O. 10530, 19 FR 2709, 3 CFR, 1954-1958 Comp., p. 189.

2. Revise § 10.3 to read as follows:

§ 10.3 Format, indexes, and ancillaries.

(a) The Administrative Committee publishes the paper edition of the Weekly Compilation of Presidential Documents in the binding and style it considers suitable for public and official use.

(b) The Administrative Committee publishes the online edition of the Weekly Compilation of Presidential Documents on GPO Access (44 U.S.C. 4101).

(c) The Weekly Compilation of Presidential Documents is appropriately indexed and contains ancillary information on Presidential activities and documents not carried in full text. In general, ancillary texts, notes and tables are derived from official sources.

PART 11—SUBSCRIPTIONS

1. The authority citation for part 11 is revised to read as follows:

Authority: 44 U.S.C. 1506; sec. 6, E.O. 10530, 19 FR 2709, 3 CFR, 1954-1958 Comp., p. 189.

2. In § 11.2, revise paragraph (a) to read as follows:

§ 11.2 Federal Register.

(a) The subscription price for the paper edition of the daily Federal Register, including postage, is $638 per year. A combined subscription to the daily Federal Register, the monthly Federal Register Index, and the monthly LSA (List of CFR Sections Affected), including postage, is $697 per year for the paper edition, or $253 per year for the microfiche edition. Six-month subscriptions to the paper and microfiche editions are also available at one-half the annual rate. Limited quantities of current or recent issues may be purchased for $9 per copy for the paper edition, or $2 per copy for the microfiche edition.

* * * * *

3. Revise § 11.3 to read as follows:

§ 11.3 Code of Federal Regulations.

(a) The subscription price for a complete set of the Code of Federal Regulations, including postage, is $1094 per year for the bound, paper edition, or $290 per year for the microfiche edition. The Government Printing Office sells individual volumes of the paper edition of the Code of Federal Regulations at prices determined by the Superintendent of Documents under the general direction of the Administrative Committee. The price of an individual volume of the microfiche edition is $2 per copy.

(b) The online edition of the Code of Federal Regulations, issued under the authority of the Administrative Committee, is available on GPO Access, a service of the Government Printing Office (44 U.S.C. 4101).

4. Revise § 11.6 to read as follows:

§ 11.6 Weekly Compilation of Presidential Documents.

(a) The subscription price for the paper edition of the Weekly Compilation of Presidential Documents is $92 per year for delivery by non-priority mail, or $151 per year for delivery by first-class mail. The price of an individual copy is $4.

(b) The online edition of the Weekly Compilation of Presidential Documents, issued under the authority of the Administrative Committee, is available on GPO Access, a service of the Government Printing Office (44 U.S.C. 4101).

5. Revise § 11.7 to read as follows:

§ 11.7 Federal Register Index.

The annual subscription price for the monthly Federal Register Index, purchased separately, in paper form, is $28.

6. Revise § 11.8 to read as follows:

§ 11.8 LSA (List of CFR Sections Affected).

The annual subscription price for the monthly LSA (List of CFR Sections Affected), purchased separately, in paper form, is $31.

John W. Carlin,
Chairman.
Michael F. DiMario,
Member.
Rosemary Hart,
Member.
Janet Reno,
Attorney General.
John W. Carlin,
Archivist of the United States.

[FR Doc. 00-4214 Filed 2-22-00; 8:45 am]

BILLING CODE 1505-02-P